DEPARTMENT OF ENERGY

Federal Energy Regulatory Commission

[Docket No. CP00-141-000]

Northwest Pipeline Corporation; Notice of Availability of the Environmental Assessment for the Proposed White River Replacement Project

September 21, 2000.

The staff of the Federal Energy Regulatory Commission (FERC or Commission) has prepared an environmental assessment (EA) on the natural gas pipeline facilities proposed by Northwest Pipeline Corporation (Northwest) in the above-referenced docket.

The EA was prepared to satisfy the requirements of the National Environmental Policy Act. The staff concludes that approval of the proposed project, with appropriate mitigating measures, would not constitute a major Federal action significantly affecting the quality of the human environment.

The purpose of the proposed project is to ensure the long-term safety and integrity of its dual pipelines where they cross the meandering White River in King County, Washington, by replacing certain sections at a deeper depth and building a permanent north bank stabilization structure.

The EA assesses the potential environmental effects of the construction, operation, and abandonment of two parallel gas pipelines including:

• Construct and operate 1,800 feet each of 26-inch-diameter and 30-inch-diameter pipelines;

• Remove 1,700 feet each of the existing 26-inch-diameter and 30-inch-diameter pipelines;

• Remove from the White River channel a 665-foot length of 26-inch-diameter pipeline which was previously abandoned in-place;

• Construct a bioengineered permanent stabilization structure on the north bank;

• Construct permanent habitat enhancement structures near the south bank.

The EA has been placed in the public files of the FERC. A limited number of copies of the EA are available for distribution and public inspection at: Federal Energy Regulatory Commission, Public Reference and Files Maintenance Branch 888 First Street, N.E., Room 2A, Washington, DC 20426, (202) 208-1371.

Copies of the EA have been mailed to Federal, state and local agencies, public interest groups, interested individuals, newspapers, and parties to this proceeding.

Any person wishing to comment on the EA may do so. To ensure consideration prior to a Commission decision on the proposal, it is important that we receive your comments before the date specified below. Please carefully follow these instructions to ensure that your comments are received in time and properly recorded:

• Send two copies of your comments to: Secretary, Federal Energy Regulatory Commission, 888 First St., N.E., Room 1A, Washington, DC 20426;

• Label one copy of the comments for the attention of the Gas Group 2, PJ11.2;

• Reference Docket No. CP00-141-000; and

• Mail your comments so that they will be received in Washington, DC on or before October 23, 2000.

Comments will be considered by the Commission but will not serve to make the commentor a party to the proceeding. Any person seeking to become a party to the proceeding must file a motion to intervene pursuant to Rule 214 of the Commission's Rules of Practice and Procedures (18 CFR 385.214). Only intervenors have the right to seek rehearing of the Commission's decision.

Affected landowners and parties with environmental concerns may be granted intervenor status upon showing good cause by stating that they have a clear and direct interest in this proceeding which would not be adequately represented by any other parties. You do not need intervenor status to have your comments considered.

Additional information about the proposed project is available from the Commission's Office of External Affairs, at (202) 208-0004 or on the FERC Internet website (www.ferc.fed.us) using the “RIMS” link to information in this docket number. Click on the “RIMS” link, select “Docket #” from the RIMS Menu, and follow the instructions. For assistance with access to RIMS, the RIMS help line can be reached at (202) 208-2222.

Similarly, the “CIPS” links on the FERC Internet website provides access to the texts of formal documents issued by the Commission, such as orders, notices, and rulemakings. From the FERC Internet website, click on the “CIPS” link, select “Docket #” from the CIPS menu, and follow the instructions. For assistance with access to CIPS, the CIPS help line can be reached at (202) 208-2474.

David P. Boergers,
Secretary.

[FR Doc. 00-24765 Filed 9-26-00; 8:45 am]

BILLING CODE 6717-01-M